DEPARTMENT OF THE TREASURY

Alcohol and Tobacco Tax and Trade Bureau

Proposed Information Collection; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before June 22, 2007.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following records and questionnaires:

Title: Brewer's Report of Operations and Brewpub Report of Operations.

OMB Number: 1513-0007.

TTB Form Numbers: 5130.9 and 5130.26.

Abstract: Brewers periodically file these reports of their operations to account for activity relating to taxable commodities. TTB uses this information primarily for revenue protection, for audit purposes, and to determine whether activities are in compliance with the requirements of law. We also use this information to publish periodic statistical releases of use and interest to the industry.

Current Actions: We are making changes to both forms. On both forms, we are revising Part 1 to improve the explanation for each line. Also, we are revising the instructions to make them clearer and easier to understand. The burden hours have decreased as a result of a decrease in the number of respondents.

Type of Review: Revision of a currently approved collection.

Affected Public: Business or other for-profit.

Estimated Number of Respondents: 1,640.

Estimated Total Annual Burden Hours: 7,310.

Title: Brewer's Bonds and Continuation Certificates.

OMB Number: 1513-0015.

TTB Form Numbers: 5130.22, 5130.23, 5130.25, and 5130.27.

Abstract: The Internal Revenue Code requires brewers to give a bond to protect the revenue and to ensure compliance with the requirements of the law and the regulations. Bonds and continuation certificates are required by law and are necessary to protect government interests in the excise tax revenues that brewers pay.

Current Actions: We are making changes to all of these forms. For all forms we are revising the Penalty and Perjury Statement, the Instructions, the Terms, and the Conditions to make them clearer and more understandable, and we are deleting the Employer Identification Number (EIN) and date from page 2. No additional changes will be made to TTB F 5130.22. However, on TTB F 5130.23, we are deleting the date from page 1, adding a space for “State of Incorporation,” deleting “office” from “mailing office address,” and adding the heading “Enter Applicable Bonds and Continuation Certificate Below” above the columns for Form #, Effective Date, and Bond Amount. On TTB F 5130.25, we are deleting the date from page 1. On TTB F 5130.27, we are deleting the date from page 1, adding a space for “State of Incorporation or Organization,” and adding the heading “Enter Applicable Bonds and Continuation Certificate Below” above the columns for Form #, Effective Date, and Bond Amount.

Type of Review: Revision of a currently approved collection.

Affected Public: Business or other for-profit.

Estimated Number of Respondents: 1,640.

Estimated Total Annual Burden Hours: 563.

Title: Signing Authority for Corporate Officials.

OMB Number: 1513-0036.

TTB Form Numbers: 5100.1.

Abstract: TTB F 5100.1 is substituted for corporate documents or minutes of a meeting of the Board of Directors in order to authorize an individual or office to sign for the corporation in TTB matters. The form identifies the corporation, the individual or office authorized to sign, and documents the authorization.

Current Actions: We are changing this form by adding a box for the EIN.

Type of Review: Revision of a currently approved collection.

Affected Public: Business or other for-profit.

Estimated Number of Respondents: 1,000.

Estimated Total Annual Burden Hours: 250.

Title: Monthly Report of Processing Operations.

OMB Number: 1513-0041.

TTB Form Number: 5110.28.

TTB Recordkeeping Requirement Number: 5110/03.

Abstract: The information collected is necessary to account for and verify the processing of distilled spirits in bond. It is used to audit plant operations, monitor industry activities for efficient allocation of personnel resources, and for the compilation of statistics.

Current Actions: We are changing this form by adding a box for the EIN.

Type of Review: Revision of a currently approved collection.

Affected Public: Business or other for-profit.

Estimated Number of Respondents: 479.

Estimated Total Annual Burden Hours: 5,748.

Title: Application for Registration for Tax-Free Transactions under 26 U.S.C. 4221.

OMB Number: 1513-0095.

TTB Form Number: 5300.28.

TTB Recordkeeping Requirement Number: 5300/28.

Abstract: Businesses and State and local governments apply for registration to sell or purchase firearms or ammunition tax-free on this form. TTB uses the form to determine an applicant's qualifications.

Current Actions: There are no changes to this information collection and it is being submitted for extension purposes only.

Type of Review: Extension of a currently approved collection.

Affected Public: Business or other for-profit; State, local, or Tribal government.

Estimated Number of Respondents: 125.

Estimated Total Annual Burden Hours: 375.

Dated: April 17, 2007.
Francis W. Foote,
Chief, Regulations and Procedures Division.

[FR Doc. E7-7697 Filed 4-20-07; 8:45 am]

BILLING CODE 4810-31-P